DEPARTMENT OF THE INTERIOR

Bureau of Land Management

[FBMS Charge Code: LLCAC070000, MU0000]

Notice of Temporary Closure in Mono County, CA

AGENCY: Bureau of Land Management (BLM), Interior.

ACTION: Notice of Temporary Closure.

SUMMARY: Under the authority of 43 CFR 8364.1, notice is hereby given that a segment of a designated road on public land is temporarily closed to all motorized vehicle use and operation, including off-highway vehicles. The purpose of this temporary closure is to prevent the spread of the invasive Quagga Mussel into Crowley Lake. The Quagga Mussel poses a significant threat to the fisheries of the eastern Sierra as well as to hydrologic infrastructures.

DATES: This closure order will be effective upon publication of this notice in the Federal Register through October 31, 2009.

ADDRESSES: BLM Bishop Field Office, 351 Pacu Lane, Bishop, CA 93514 (760) 872-5000.

FOR FURTHER INFORMATION CONTACT: Anne Halford, Bureau of Land Management, 351 Pacu Lane Ste. 100, Bishop, CA 93514. Phone: (760) 872-5022.

SUPPLEMENTARY INFORMATION: The temporarily closed road section is 0.47 mile in length from the BLM access point to the Los Angeles Department of Water and Power (LADWP) access point and is described as the designated access point on BLM administered lands in the Long Valley area of Mono County, California in T. 3 S, R. 29 E, NE1/4 of SW1/4 section 27. The access point will be marked with a gate and appropriate signage informing the public about the closure. Closure signs will be posted at the entrance point of closure. Maps of the closure area can be obtained at the BLM Bishop Field Office.

The BLM is implementing this action on a 0.47 mile section of road on public land in Mono County, California. The BLM Bishop Field Office is implementing the closure in coordination with the Los Angeles Department of Water and Power (LADWP) to secure uncontrolled access to Crowley Lake to prevent watercraft that may carry Quagga Mussels from entering the lake.

Discussion of the Order: Under the authority of 43 CFR 8364.1 the BLM will enforce the following rules on public lands within the closed area: No person shall enter the closed area with a motorized vehicle. The following are exempt from this closure: (1) Any Federal, State or local government law enforcement officer or employee engaged in enforcing this closure order or member of an organized rescue or fire fighting force while in the performance of an official duty; and (2) Persons with a permit specifically authorizing the otherwise prohibited act; (3) Any BLM employee, agent, or contractor while in the performance of an official duty, or any person expressly authorized by the BLM.

Penalties: Any person who violates any of these restrictions may be tried before a United States Magistrate and fined no more than $1,000, imprisoned no more than 12 months, or both, in accordance with 43 U.S.C. 1733(a) and 43 CFR 8360.0-7. Such violations may also be subject to the enhanced penalties provided by 18 U.S.C. 3571 and 3581. In accordance with 43 CFR 8365.1-7, State or local officials may also impose penalties for violations of California law.

F. Kirk Halford,
Acting Bishop Field Office Manager.

[FR Doc. E9-16423 Filed 7-10-09; 8:45 am]

BILLING CODE P